FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 016623F.

Name: ATE Logistics, Inc.

Address: 46 N. Lively Blvd., Elk Grove Village, IL 60007.

Date Revoked: June 1, 2008.

Reason: Failed to maintain a valid bond.

License Number: 019008NF.

Name: Avion Company, Inc. dba Novia Company.

Address: 18726 So. Western Ave., Ste. 403, Gardena, CA 90248.

Date Revoked: July 15, 2008.

Reason: Failed to maintain valid bonds.

License Number: 003847F.

Name: B.C. International Trading, Inc.

Address: 998 Arthur Kill Road, Staten Island, NY 10312.

Date Revoked: June 20, 2008.

Reason: Failed to maintain a valid bond.

License Number: 017410N.

Name: Extrans International U.S.A.

Address: 758 Glasgow Ave., 2nd Fl., Inglewood, CA 90301.

Date Revoked: June 7, 2008.

Reason: Failed to maintain a valid bond.

License Number: 013154N.

Name: Fastpak Express Corporation.

Address: 1968 Story Rd., San Jose, CA 95122.

Date Revoked: June 7, 2008.

Reason: Failed to maintain a valid bond.

License Number: 019920NF.

Name: International Shipping Company dba ISC Shipping.

Address: 2727 Beech Daly Road, Dearborn Heights, MI 48125.

Date Revoked: June 18, 2008.

Reason: Failed to maintain valid bonds.

License Number: 018813NF.

Name: KLS Air Express, Inc. dba FSP Maritime dba Freight Solutions Providers.

Address: 10453 Old Placerville Rd., Sacramento, CA 95827.

Date Revoked: May 1, 2008.

Reason: Failed to maintain valid bonds.

License Number: 017109N.

Name: Namgene Paik dba Southern Logistic Service.

Address: 2401 208th Street, Unit C-5, Torrance, CA 90501.

Date Revoked: June 13, 2008.

Reason: Failed to maintain a valid bond.

License Number: 012639N.

Name: New World Freight Systems, Inc.

Address: 1067 Sneath Lane, San Bruno, CA 94066.

Date Revoked: July 12, 2008.

Reason: Failed to maintain a valid bond.

License Number: 020200NF.

Name: Nu-Born Express, Inc.

Address: 222 E. Redondo Beach Blvd., Ste. H, Gardena, CA 90248.

Date Revoked: June 20, 2008.

Reason: Failed to maintain valid bonds.

License Number: 020794N.

Name: Ocean Pacific Brokerage & Air Cargo Corp. dba Ocean Air Pacific Cargo.

Address: 16 Corning Ave., Suite 154, Milpitas, CA 95035.

Date Revoked: June 7, 2008.

Reason: Failed to maintain a valid bond.

License Number: 020516NF.

Name: Pak-Mail Centers of America, Inc. dba Platinum Worldwide Logistics.

Address: 7173 So. Havana Street, Ste. 600, Centennial, CO 80112-3891.

Date Revoked: June 15, 2008.

Reason: Surrendered license voluntarily.

License Number: 001469NF.

Name: PBB Global Logistics, Inc.

Address: 670 Young Street, Tonawanda, NY 14150-4103.

Date Revoked: July 22, 2008.

Reason: Surrendered license voluntarily.

License Number: 018247N.

Name: Q Follow Shipping, Inc.

Address: 815 Fairview Ave., Bldg. #1, Fairview, NJ 07022.

Date Revoked: July 12, 2008.

Reason: Failed to maintain a valid bond.

License Number: 018272N.

Name: R.B.I. Shipping and Trading, Inc.

Address: 25 Milwood Street, Boston, MA 02124.

Date Revoked: July 15, 2008.

Reason: Failed to maintain a valid bond.

License Number: 020613F.

Name: SMSI International, Inc.

Address: 7566 Pinewood Trail, West Bloomfield, MI 48322.

Date Revoked: April 11, 2008.

Reason: Failed to maintain a valid bond.

License Number: 011170N.

Name: Sage Freight System Inc. dba Sage Container Lines.

Address: 182-30 150th Road, Ste 108, Jamaica, NY 11413.

Date Revoked: June 11, 2008.

Reason: Failed to maintain a valid bond.

License Number: 018234N.

Name: Savant International Logistics Ltd.

Address: 11 Broadway, Ste. 1068, New York, NY 10004.

Date Revoked: July 12, 2008.

Reason: Failed to maintain a valid bond.

License Number: 017175N.

Name: Seaspeed Overseas Shipping Co., Inc.

Address: 69 Le Fante Lane, Bayonne, NJ 07002.

Date Revoked: June 22, 2008.

Reason: Failed to maintain a valid bond.

License Number: 013406N.

Name: Trinity Shipping Company.

Address: 1316 Airlie Road, Ste. 4, Wilmington, NC 28403.

Date Revoked: June 21, 2008.

Reason: Failed to maintain a valid bond.

License Number: 020376NF.

Name: Unity Container Line, Inc.

Address: 9010 SW 137th Ave., Ste. 246, Miami, FL 33186.

Date Revoked: July 14, 2008.

Reason: Failed to maintain valid bonds.

License Number: 019886F.

Name: Vincent Jabonillo dba Macro Express Services.

Address: 4164 Santa Monica Blvd., Los Angeles, CA 90029.

Date Revoked: June 7, 2008.

Reason: Failed to maintain a valid bond.

License Number: 016613N.

Name: Yourway, Inc.

Address: 362 East 235 Street, P.O. Box 133, Woodlawn, NY 10470

Date Revoked: June 7, 2008.

Reason: Failed to maintain a valid bond.

Sandra L. Kusumoto,
Director, Bureau of Certification and Licensing.

[FR Doc. E8-18764 Filed 8-12-08; 8:45 am]

BILLING CODE 6730-01-P